DEPARTMENT OF COMMERCE

National Oceanic and Atmospheric Administration

RIN 0648-XF98

Endangered Species; File No. 1614

AGENCY: National Marine Fisheries Service (NMFS), National Oceanic and Atmospheric Administration (NOAA), Commerce.

ACTION: Issuance of permit.

SUMMARY: Notice is hereby given that the NOAA Fisheries Northeast Region, Protected Resources Division [Responsible Party: Mary Colligan], One Blackburn Drive, Gloucester, MA 01930, has been issued a permit to take dead shortnose sturgeon for purposes of scientific research.

ADDRESSES: The permit and related documents are available for review upon written request or by appointment in the following offices:

Permits, Conservation and Education Division, Office of Protected Resources, NMFS, 1315 East-West Highway, Room 13705, Silver Spring, MD 20910; phone (301) 713-2289; fax (301) 713-0376; and

Northeast Region, NMFS, One Blackburn Drive, Gloucester, MA 01930-2298; phone (978) 281-9300; fax (978) 281-9394.

FOR FURTHER INFORMATION CONTACT: Brandy Belmas or Jennifer Skidmore, (301) 713-2289.

SUPPLEMENTARY INFORMATION: On September 26, 2007, notice was published in the Federal Register (72 FR 54643) that a request for a scientific research permit to take dead shortnose sturgeon had been submitted by the above-named organization. The requested permit has been issued under the authority of the Endangered Species Act of 1973, as amended (ESA; 16 U.S.C. 1531 et seq.) and the regulations governing the taking, importing, and exporting of endangered and threatened species (50 CFR parts 222-226).

This research permit authorizes the collection, receipt and transport of 100 dead shortnose sturgeon, or parts thereof, annually. Researchers would also be authorized the receipt and transport of 50 captive bred, dead shortnose sturgeon annually from any U.S. facility authorized to hold captive sturgeon. In the case of an unusual mortality event, takes may be increased from 100 up to 1,000 animals with written approval from the Director, Office of Protected Resources. This permit does not authorize the harassment or take of any protected species (including live shortnose sturgeon). This permit authorizes the conduct of the aforementioned research over a period of five years.

Issuance of this permit, as required by the ESA, was based on a finding that such permit (1) was applied for in good faith, (2) will not operate to the disadvantage of such endangered or threatened species, and (3) is consistent with the purposes and policies set forth in section 2 of the ESA.

Dated: February 28, 2008.
P. Michael Payne,
Chief, Permits, Conservation and Education Division, Office of Protected Resources, National Marine Fisheries Service.

[FR Doc. E8-4260 Filed 3-4-08; 8:45 am]

BILLING CODE 3510-22-S